DEPARTMENT OF THE INTERIOR

National Park Service

[NPS-WASO-NRNHL-DTS#-33209; PPWOCRADI0, PCU00RP14.R50000]

National Register of Historic Places; Notification of Pending Nominations and Related Actions

AGENCY: National Park Service, Interior.

ACTION: Notice.

SUMMARY: The National Park Service is soliciting electronic comments on the significance of properties nominated before December 25, 2021, for listing or related actions in the National Register of Historic Places.

DATES: Comments should be submitted electronically by January 21, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 25, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Buildings at 5000-5040 New Hampshire Avenue NW, (Apartment Buildings in Washington, DC, MPS) 5000-5040 New Hampshire Ave. NW, Washington, MP100007399

FLORIDA

Miami-Dade County

Hampton House Motel, 4240 NW 27th Ave., Miami, SG100007393

Sarasota County

Sarasota Garden Center (Sarasota School of Architecture MPS), 1131 Boulevard of the Arts, Sarasota, MP100007394

MASSACHUSETTS

Middlesex County

Common Street Cemetery, Common St., Watertown, SG100007387

Old Burying Ground, Grove St., Watertown, SG100007388

Worcester County

YWCA of Worcester, 2 YWCA Way, Worcester, SG100007389

NEW YORK

Monroe County

Johnson, James H. and Sarah, House (Architecture of James H. Johnson in the Greater Rochester Area 1961-1977 MPS), 86 Mountain Rd., Penfield vicinity, MP100007386

Montgomery County

Smith-Voorhees-Covenhoven House, 141 Reynolds Rd., Fultonville, SG100007397

Oneida County

Olbiston Flats, 1431 Genesee St., Utica, SG100007398

OHIO

Mercer County

Morvilius Opera House, 101 North Wayne St., Fort Recovery, SG100007396

Noble County

Exaltation-Elevation of the Holy Cross Church, 100 Walnut St., Belle Valley, SG100007400

SOUTH CAROLINA

Kershaw County

Plane Hill, 691 Cantey Ln., Rembert vicinity, SG100007390

SOUTH DAKOTA

Roberts County

Sisseton Agency Headquarters & Wacipi Grounds, 45744 BIA Hwy. 706, Agency Village, SG100007395

TEXAS

Bell County

Missouri, Kansas and Texas (MK&T-Katy) Railway Passenger Depot, 620 Central Ave., Temple, SG100007401

Harris County

Eldorado Ballroom, 2310 Elgin St., Houston, SG100007402

Tarrant County

Farrington Field and Public Schools Gymnasium, 1501 University Dr. and 1400 Foch St., Fort Worth, SG100007403

Travis County

Anderson Stadium, South of the intersection of Hargrave Ave., Rosewood Ave., and Thompson St., Austin, SG100007405

Webb County

Pan-American Courts and Cafe, 3301 San Bernardo Ave., Laredo, SG100007392

Wharton County

Stephen F. Austin Elementary School, 500 Abell St., Wharton, SG100007404

A request for removal has been made for the following resource:

IOWA

Adams County

Odell, Noah, House, 1245 240th St., Nodaway vicinity, OT00000917

Authority: Section 60.13 of 36 CFR part 60.

Dated: December 25, 2021.
Sherry A. Frear,
Chief, National Register of Historic Places/National Historic Landmarks Program.

[FR Doc. 2022-00007 Filed 1-5-22; 8:45 am]

BILLING CODE 4312-52-P